DEPARTMENT OF LABOR

Employment and Training Administration

[TA-W-39, 154]

Jonathan Manufacturing, d/b/a/ Jonathan Engineered Solutions, Fullerton, CA; Amended Certification Regarding Eligibility To Apply for Worker Adjustment Assistance

In accordance with section 223 of the Trade Act of 1974 (19 U.S.C. 2273) the Department of Labor issued a Certification of Eligibility to Apply for Worker Adjustment Assistance on May 8, 2001, applicable to workers of Jonathan Engineered Solutions, Fullerton, California. The notice was published in the Federal Register on May 23, 2001 (66 FR 28554).

At the request of the State agency, the Department reviewed the certification for workers of the subject firm. The workers are engaged in the activities related to the production of aluminum slides (assembly and fabrication). The workers are separately identifiable from workers producing steel slides at the subject plant.

New information provided by the State shows that Jonathan Manufacturing is the parent firm of Jonathan Engineered Solutions, Fullerton, California. Information also shows that some of the claimants' wages are reported under the Unemployment Insurance (UI) tax account for Jonathan Manufacturing, d/b/a Jonathan Engineered Solutions, Fullerton, California.

The intent of the Department's certification is to include all workers of Jonathan Engineered Solutions who were adversely affected by imports.

Accordingly, the Department is amending the certification to properly reflect this matter.

The amended notice applicable to TA-W-39,154 is hereby issued as follows:

All workers of Jonathan Manufacturing , D/B/A Jonathan Engineered Solutions, Fullerton, California, engaged in employment related to the production of aluminum slides (fabrication and assembly) who became totally or partially separated from employment on or after April 6, 2000, through May 8, 2003, are eligible to apply for adjustment assistance under Section 223 of the Trade Act of 1974.

Signed at Washington, DC this 29th day of November, 2001.
Linda G. Poole,
Certifying Officer, Division of Trade Adjustment Assistance.

[FR Doc. 01-31153 Filed 12-17-01; 8:45 am]

BILLING CODE 4510-30-M